DEPARTMENT OF TRANSPORTATION

National Highway Traffic Safety Administration

[Docket No. NHTSA-2022-0030]

Agency Request for Information; State Electronic Data Collection Grant Program: Extension of Comment Period

AGENCY: National Highway Traffic Safety Administration (NHTSA), Department of Transportation (DOT).

ACTION: Extension of comment period.

SUMMARY: The National Highway Traffic Safety Administration (NHTSA) received one petition to extend the comment period for a request for information (RFI) notice on the agency's efforts to develop and implement a new discretionary grant program to increase the number of States, U.S. territories, and Indian tribes electronically transferring their motor vehicle crash data to NHTSA. NHTSA published an RFI notice requesting information from interested parties on April 29, 2022. The comment period for the RFI notice was scheduled to end on May 31, 2022. NHTSA is extending the comment period for the April 29, 2022, RFI notice by 45 days.

DATES: The comment period for the RFI notice published on April 29, 2022 is extended to July 15, 2022.

ADDRESSES: You may submit comments to the docket number identified in the heading of this document by any of the following methods:

• Federal eRulemaking Portal: Go to http://www.regulations.gov. Follow the online instructions for submitting comments.

• Mail: Docket Management Facility, M-30, U.S. Department of Transportation, West Building, Ground Floor, Rm. W12-140, 1200 New Jersey Avenue SE, Washington, DC 20590.

• Hand Delivery or Courier: West Building, Ground Floor, Room W12-140, 1200 New Jersey Avenue SE, between 9 a.m. and 5 p.m. Eastern Time, Monday through Friday, except Federal holidays. To be sure someone is there to help you, please call (202) 366-9332 before coming.

• Fax: 202-493-2251.

Regardless of how you submit your comments, please mention the docket number identified in the heading of this document.

Note that all comments received will be posted without change to http://www.regulations.gov, including any personal information provided.

Privacy Act: In accordance with 5 U.S.C. 553(c), DOT solicits comments from the public to better inform its decision-making process. DOT posts these comments, without edit, including any personal information the commenter provides, to www.regulations.gov, as described in the system of records notice (DOT/ALL-14 FDMS), which can be reviewed at www.transportation.gov/privacy. In order to facilitate comment tracking and response, the Agency encourages commenters to provide their name, or the name of their organization; however, submission of names is completely optional. Whether or not commenters identify themselves, all timely comments will be fully considered.

Docket: For access to the docket to read background documents or comments received, go to www.regulations.gov, or the street address listed above. To be sure someone is there to help you, please call (202) 366-9332 before coming. Follow the online instructions for accessing the dockets.

FOR FURTHER INFORMATION CONTACT: For technical issues, you may contact Ms. Barbara Rhea, State Data Reporting Systems Division Chief, NHTSA (phone: 202-366-2714) or you may send an email to Ms. Rhea at Barbara.rhea@dot.gov. Address: National Highway Traffic Safety Administration, U.S. Department of Transportation, 1200 New Jersey Avenue SE, West Building, Washington, DC 20590.

SUPPLEMENTARY INFORMATION: On April 29, 2022, pursuant to Section 24108(d) of the Infrastructure Investment and Jobs Act, NHTSA published an RFI notice seeking comment on its plans to develop a new State electronic data collection program that requires NHTSA to develop and implement a new discretionary grant program. The new grant program is to provide support to States to upgrade and standardize their State crash data systems to enable electronic data collection, intrastate data sharing, and electronic data transfer to NHTSA. The new program will increase the accuracy, timeliness, and accessibility of the data including data relating to fatalities involving vulnerable road users to States and NHTSA. See Public Law 117-58, 24108(d)(3), 135 Stat 429. Eligible States ¹ may use these grants for the costs of equipment to upgrade a statewide crash data repository; adoption of electronic crash reporting by law enforcement agencies and increasing alignment of State crash data with the latest Model Minimum Uniform Crash Criteria.² This notice requests information from interested parties, including State crash data owners, highway safety offices, law enforcement, and other stakeholders to assist NHTSA in the development of a new State electronic data collection program that supports State crash data system improvements, enhances NHTSA's National Center for Statistics and Analysis (NCSA) data infrastructure where these data will be stored, and shares a subset of the resulting data with the public. NHTSA plans to utilize the information provided under this RFI notice to enhance and support the development of the State electronic data collection discretionary grant program. The comment period for the RFI notice was scheduled to end on May 31, 2022.

¹ Under BIL, “State” is defined as each of the 50 States, District of Columbia, the Commonwealth of Puerto Rico, the U.S. Virgin Islands, Guam, American Samoa, the Commonwealth of Northern Mariana Islands and the Secretary of the Interior, acting on behalf of an Indian Tribe. See Public Law 117-58, 24108(d)(1)(A).

² § 24108(d)(3)(C).

Comment Period Extension Requests

The Governors Highway Safety Association (GHSA) requested a 60-day extension of the comment period. The requestor states that the RFI notice addresses several complex topics that would require conducting in-depth review and analysis to develop informed feedback. They suggested the additional time would allow them to conduct the detailed review of the notice and develop appropriate responses. The requestor stated that the additional time would allow for more fully developed feedback to support the agency's next steps.

Agency Decision

NHTSA determined that the requestor provided sufficient justification for an extension, and that the extension is consistent with the public interest. NHTSA agrees that allowing additional time for the public and its stakeholders to provide comments to the questions raised in the RFI notice would better inform NHTSA regarding the various program areas and topics discussed in the RFI notice. Therefore, NHTSA is granting the aforementioned request to extend the comment period; however, NHTSA is extending it for 45 days. A 45-day extension appropriately balances NHTSA's interest in providing the public with sufficient time to comment on the questions raised in the RFI notice with its interest to pursue development of this program in a timely manner and its ability to present proposals at the 2022 Traffic Records Forum, scheduled for August 7-10, 2022.

Authority: S. 24108, Pub. L. 117-58, 135 Stat 429; 49 U.S.C. 30166 and 30182; delegation of authority at 49 CFR 1.95 and 49 CFR 501.8.

Chou-Lin Chen,
Associate Administrator for the National Center for Statistics and Analysis.

[FR Doc. 2022-10510 Filed 5-16-22; 8:45 am]

BILLING CODE 4910-59-P